DEPARTMENT OF THE INTERIOR

Office of the Secretary

[19XD4523WD DS68647000 DWDHV0000.000000 DQ.FEDJG.19000000; OMB Control Number 1093-NEW]

Agency Information Collection Activities; FedTalent Registration

AGENCY: Office of the Secretary, Interior.

ACTION: Notice of Information Collection; request for comment.

SUMMARY: In accordance with the Paperwork Reduction Act of 1995, the Office of the Secretary (OS), Department of the Interior (DOI) is proposing a new information collection.

DATES: Interested persons are invited to submit comments on or before February 25, 2019.

ADDRESSES: Send your comments on this information collection request (ICR) by mail to the Jeffrey Parrillo, 1849 C Street NW, Washington, DC 20240; or by email to jeffrey_parrillo@ios.doi.gov. Please reference OMB Control Number 1093-NEW FedTalent in the subject line of your comments.

FOR FURTHER INFORMATION CONTACT: To request additional information about this ICR, contact Jeffrey Parrillo, 1849 C Street NW, Washington, DC 20240; or by email to jeffrey_parrillo@ios.doi.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the OS; (2) will this information be processed and used in a timely manner; (3) is the estimate of burden accurate; (4) how might the OS enhance the quality, utility, and clarity of the information to be collected; and (5) how might the OS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: FedTalent is the Department of the Interior's (DOI) shared services system to maintain and validate training records, manage class rosters and transcripts for course administrators and the student or training recipient, meet Federal mandatory training and statistical reporting requirements, and manage other programmatic functions related to training and educational programs.

DOI collects personal information from students in order to communicate training opportunities, manage course registration and delivery, validate training records necessary for certification or granting of college credit, process billing information for training classes, and to meet Federal training reporting requirements. Information may also be collected to comply with the Americans with Disabilities Act requirements to address facilities accommodations. Training and learning records are maintained in DOI's web-based learning management system, and bureau and office systems and locations where training programs are managed. DOI bureau's offer training programs which extend to external customers; such as Universities, State governments, local governments and not-for-profit organizations and in some cases private citizens.

Each year approximately 3,000 external users request to register for training offered by DOI bureau's and offices through FedTalent. Each registration will require approximately 3 minutes. Upon deployment in the Fall 2018, FedTalent will:

• Create an authoritative system of record for all training completions,

• Offer a more flexible approach for external training requests and documentation (Forms SF-182),

• Create a learning environment that encourages engagement on multiple levels,

• Improve the supervisory approval workflow for external requests (Forms SF-182),

• Enhance training delivery options, and

• Create opportunities to offer world-class instruction and to engage directly with learners through discussion forums and communities of practice.

Title of Collection: FedTalent Registration.

OMB Control Number: 1093-NEW.

Form Number: SF-182.

Type of Review: New.

Respondents/Affected Public: Contractors, students, volunteers, partners, State and local employees, and Federal employees from agencies outside DOI.

Total Estimated Number of Annual Respondents: 3,000.

Total Estimated Number of Annual Responses: 3,000.

Estimated Completion Time per Response: 3 minutes per response.

Total Estimated Number of Annual Burden Hours: 150.

Respondent's Obligation: Required to Obtain or Retain a Benefit.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Michele F. Singer,
Director, Interior Business Center/Department of the Interior.

[FR Doc. 2018-28133 Filed 12-26-18; 8:45 am]

BILLING CODE 4334-63-P